DEPARTMENT OF DEFENSE

Department of the Air Force

Active Duty Service Determinations For Civilian or Contractual Groups

SUMMARY: On July 30, 2010, the Secretary of the Air Force, acting as Executive Agent of the Secretary of Defense, determined that service of the group known as the “”Honorably Discharged Members of The Gold Coast Native Guard Who Were Civilian Workers Employed From 1942 to August 15, 1945, by the U.S. Army, Headquartered at Then `American Camp,' Now Named `Burma Camp,' Ghana' ” shall not be considered “active duty” for purposes of all laws administered by the Department of Veterans Affairs (VA).

FOR FURTHER INFORMATION CONTACT: Mr. James D. Johnston at the Secretary of the Air Force Personnel Council (SAFPC); 1535 Command Drive, EE Wing, 3d Fl.; Andrews AFB, MD 20762-7002.

Bao-Anh Trinh,
GS-14,
Air Force Federal Register Liaison Office.

[FR Doc. 2010-20148 Filed 8-13-10; 8:45 am]

BILLING CODE 5001-10-P